DEPARTMENT OF ENERGY

Federal Energy Regulatory Commission

[Docket No. EL11-29-000]

Atlantic Path 15, LLC; Notice of Initiation of Proceeding and Refund Effective Date

On April 19, 2011, the Commission issued an order that initiated a proceeding in Docket No. EL11-29-000, pursuant to section 206 of the Federal Power Act (FPA), 16 U.S.C. 824e (2006), to determine the justness and reasonableness of Atlantic Path 15, LLC's proposed rate reduction to its transmission revenue requirement. Atlantic Path 15, LLC, 135 FERC ¶ 61,037 (2011).

The refund effective date in Docket No. EL11-29-000, established pursuant to section 206(b) of the FPA, will be the date of publication of this notice in the Federal Register.

Dated: October 5, 2011.
Nathaniel J. Davis, Sr.,
Deputy Secretary.

[FR Doc. 2011-26374 Filed 10-12-11; 8:45 am]

BILLING CODE 6717-01-P